DEPARTMENT OF TRANSPORTATION

Office of the Secretary

Notice of Applications for Certificates of Public Convenience and Necessity and Foreign Air Carrier Permits Filed Under Subpart B (Formerly Subpart Q) During the Week Ending July 15, 2005

The following Applications for Certificates of Public Convenience and Necessity and Foreign Air Carrier Permits were filed under Subpart B (formerly Subpart Q) of the Department of Transportation's Procedural Regulations (See 14 CFR 301.201 et. seq.).

The due date for Answers, Conforming Applications, or Motions to Modify Scope are set forth below for each application. Following the Answer period DOT may process the application by expedited procedures. Such procedures may consist of the adoption of a show-cause order, a tentative order, or in appropriate cases a final order without further proceedings.

Docket Number: OST-2005-21841.

Date Filed: July 12, 2005.

Due Date for Answers, Conforming Applications, or Motion to Modify Scope: August 2, 2005.

Description: Application of Comlux Aviation AG requesting a foreign air carrier permit to conduct: (1) Charter foreign air transportation of persons, property and mail between any point or points in Switzerland and any point or points in the United States; and between any point or points in the United States and any point or points in a third country or countries, provided that such service constitutes part of a continuous operation, with or without a change of aircraft, that includes air service to Switzerland for the purpose of carrying local traffic between Switzerland and the United States; and (2) other charters between third countries and the United States.

Renee V. Wright
Program Manager, Docket Operations, Federal Register Liaison.

[FR Doc. 05-15126 Filed 7-29-05; 8:45 am]

BILLING CODE 4910-62-P